NEIGHBORHOOD REINVESTMENT CORPORATION

Regular Board of Directors Sunshine Act Meeting

TIME & DATE: 2:00 p.m., Wednesday, January 9, 2013.

PLACE: 1325 G Street NW., Suite 800, Boardroom, Washington, DC 20005.

STATUS: Open.

CONTACT PERSON FOR MORE INFORMATION: Erica Hall, Assistant Corporate Secretary (202) 220-2376; ehall@nw.org.

AGENDA:

I. Call to Order

II. Executive Session

III. Approval of the Regular Board of Directors Meeting Minutes

IV. Approval of the Finance, Budget & Program Committee Meeting Minutes

V. Approval of the Audit Committee Meeting Minutes

VI. Motion to Approve Treasury Partnership w/NFMC

VII. Financial Report

VIII. DC Lease Update

IX. FY 12 Milestone Report & Dashboard

X. Management Updates

XI. Community Stabilization Overview

XII. NFMC & EHLP

XIII. Adjournment

Erica Hall,
Assistant Corporate Secretary.

[FR Doc. 2012-31163 Filed 12-21-12; 4:15 pm]

BILLING CODE 7570-02-P